DEPARTMENT OF TRANSPORTATION

Office of the Secretary

Aviation Proceedings, Agreements filed the week ending April 23, 2011

The following Agreements were filed with the Department of Transportation under the Sections 412 and 414 of the Federal Aviation Act, as amended (49 U.S.C. 1382 and 1384) and procedures governing proceedings to enforce these provisions. Answers may be filed within 21 days after the filing of the application.

Docket Number: DOT-OST-2011-0082.

Date Filed: April 20, 2011.

Parties: Members of the International Air Transport Association.

Subject: CSC/33/Meet/008/2011 dated 19 April 2011 Expedited Finally Adopted Resolution 656 and Recommended Practices 1630 and 1677.

Intended effective date: 1 July 2011.
Renee V. Wright,
Program Manager, Docket Operations, Federal Register Liaison.

[FR Doc. 2011-11344 Filed 5-9-11; 8:45 am]

BILLING CODE 4910-9X-P